DEPARTMENT OF TRANSPORTATION

Federal Highway Administration

Notice of Public Meeting: National Dialogue on Highway Automation

AGENCY: Federal Highway Administration (FHWA), U.S. Department of Transportation (DOT).

ACTION: Notice of public meeting.

SUMMARY: FHWA will conduct a series of public meetings to seek input on the integration of automated vehicles on the Nation's roadways that will be held at different locations across the country. The objectives of the public meetings are to: engage with a diverse group of stakeholders to understand key issues regarding automated vehicles and their implications for the roadway infrastructure; and gather input on highway automation to help inform FHWA research, policy, and programs. The public meetings will have presentations and breakout sessions during which participants can provide written and oral comments. This meeting is the first in a series of related public meetings being conducted during 2018.

DATE AND TIME: FHWA will hold the first public meeting on June 7, 2018, in Detroit, Michigan. The meeting will start at 8 a.m. and continue until 2 p.m. EDT. Check-in will begin at 7:30 a.m. Attendees should arrive early enough to check in by 7:50 a.m.

ADDRESSES: The meeting will be held at the Cobo Center located at 1 Washington Blvd., Detroit, Michigan 48226. This facility is accessible to individuals with disabilities.

FOR FURTHER INFORMATION CONTACT: If you have questions about the public meeting, please contact John Corbin at john.corbin@dot.gov. More information is available at https://ops.fhwa.dot.gov/automationdialogue/index.htm.

SUPPLEMENTARY INFORMATION: Registration is necessary for all attendees. Attendees should register at: https://ops.fhwa.dot.gov/automationdialogue/index.htm. Please provide your name, email address, and affiliation. In person attendance will be limited, so advance registration is required. Should it be necessary to cancel the meeting due to inclement weather or other emergency, FHWA will take all available measures to notify registered participants beforehand.

Background

Automated vehicles have the potential to significantly transform the Nation's roadways. They could help save lives, expand access to transportation, and improve the convenience of travel. However, even as these technologies offer new opportunities, they may introduce new challenges for those responsible for the planning, design, construction, operation, and maintenance of the Nation's roadway infrastructure. As a result, FHWA is interested in better understanding the implications of highway automation for its stakeholders and the Agency.

As the effect of automation on the Nation's roadways becomes clearer, FHWA will define its role in further facilitating innovation and enabling the benefits of the capabilities. This National Dialogue on Highway Automation is an opportunity to engage the public and broad stakeholder community to understand their key areas of interest. These stakeholders will include original equipment manufacturers, technology suppliers, transportation network companies, associations, and public-sector partners. The National Dialogue will help inform national research, policy, and implementation assistance activities to support highway automation readiness. This meeting is one in a series of related public meetings being conducted during 2018.

Meeting Agenda

The draft meeting agenda is as follows:

8:00 a.m. Welcome and Overview of Dialogue Objectives

8:15 a.m. Panel Discussion on Preliminary Focus Areas

9:00 a.m. Breakout Session 1: Issues and Challenges for Highway Automation

9:45 a.m. Report Out: Breakout Session 1

10:00 a.m. Break

10:15 a.m. Keynote

10:30 a.m. Breakout Session 2: Developing New Models for Partnering: Bringing Industry, Government, and Associations Together

11:15 a.m. Report Out: Breakout Session 2

11:30 a.m. Next Steps for the National Dialogue

12:00 p.m. Lunch (not included)

1:00 p.m. Open Debrief

2:00 p.m. Adjourn

Issued: June 1, 2018.
Brandye L. Hendrickson,
Acting Administrator, Federal Highway Administration.

[FR Doc. 2018-12292 Filed 6-4-18; 4:15 pm]

BILLING CODE 4910-22-P